DEPARTMENT OF ENERGY

Federal Energy Regulatory Commission

Sunshine Act Meetings

The following notice of meeting is published pursuant to section 3(a) of the government in the Sunshine Act (Pub. L. 94-409), 5 U.S.C. 552b:

Agency Holding Meeting: Federal Energy Regulatory Commission.

TIME AND DATE: February 15, 2024, 1 p.m.

PLACE: Howard University School of Law, Damon J. Keith Moot Court Room, Houston Hall, 2900 Van Ness Street, NW,Washington, DC 20008.

STATUS: Open to the public for viewing via webcast at https://www.ferc.gov/news-events/events/february-15-2024-open-meeting-02152024.¹

¹ In addition to viewing the meeting on the internet, a limited number of seats are available for in-person viewing. Registration is required, and only confirmed registrants will be admitted to the meeting. There is no fee for attendance. Registrants who receive a confirmed space will be contacted via email. The Commission encourage members of the public who wish to attend this meeting in person to register at their earliest convenience. To register, please visit the February Commission Meeting event page at https://www.ferc.gov/news-events/events/february-15-2024-open-meeting-02152024.

MATTERS TO BE CONSIDERED: Agenda.

* Note—Items listed on the agenda may be deleted without further notice.

CONTACT PERSON FOR MORE INFORMATION: Debbie-Anne A. Reese, Acting Secretary, Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1110th—Meeting
[Open meeting—February 15, 2024, 1:00 p.m.]
Item No. | Docket No. | Company
Administrative
A-1 | AD24-1-000 | Agency Administrative Matters.
A-2 | AD24-2-000 | Customer Matters, Reliability, Security and Market Operations.
A-3 | AD22-11-000, AD21-9-000 | OPP Fundamentals for Participating in FERC Matters, Office of Public Participation.
Electric
E-1 | RD24-1-000 | North American Electric Reliability Corporation.
E-2 | ER18-1639-026 | Constellation Mystic Power, LLC.
E-3 | ER24-646-000 | Wisconsin Electric Power Company.
E-4 | ER24-494-000 | California Independent System Operator Corporation.
E-5 | TX23-5-000 | THSI bn, LLC.
E-6 | ER18-1182-000 | System Energy Resources, Inc.
| EL17-41-000 | Arkansas Public Service Commission and Mississippi Public Service Commission v. System Energy Resources, Inc.
| EL18-142-000, EL18-204-000 (consolidated) | Louisiana Public Service Commission v. System Energy Resources, Inc. and Entergy Services, Inc.
| EL18-152-000 | Louisiana Public Service Commission v. System Energy Resources, Inc. and Entergy Services, Inc.
| EL20-72-000 | Louisiana Public Service Commission, Arkansas Public Service Commission, Council of the City of New Orleans, Louisiana, and Mississippi Public Service Commission v. System Energy Resources, Inc. and Entergy Services, LLC, System Energy Resources, Inc.
| ER21-117-000, ER21-129-000, EL21-24-000, ER21-748-000, EL21-46-000 (consolidated) | Louisiana Public Service Commission, Arkansas Public Service Commission, and Council of the City of New Orleans, Louisiana v. System Energy Resources, Inc.
| EL21-56-000 | Entergy Services, LLC, and Entergy Operations, Inc., System Energy Resources, Inc.
| ER22-958-000, ER23-435-000, ER23-816-000, ER23-1022-000, ER23-1164-000, EL24-5-000 | Louisiana Public Service Commission, Arkansas Public Service Commission, and Council of the City of New Orleans, Louisiana v. System Energy Resources, Inc., Entergy Services, LLC, and Entergy Operations, Inc.
E-7 | ER24-355-000 | California Independent System Operator Corporation.
E-8 | EL23-101-000 | Mid-Atlantic Offshore Development, LLC.
Miscellanous
M-1 | PL24-2-000 | Enforcement of Statutes, Orders, Rules, and Regulations.
Hydro
H-1 | P-15310-000 | Neptune Pumped Storage 1, LLC.
H-2 | P-15311-000 | Neptune Pumped Storage 2, LLC.
H-3 | P-15233-000, P-15234-000, P-15235-000 | Nature and People First Arizona PHS, LLC.
H-4 | P-15293-001 | Nature and People First New Mexico PHS, LLC.
H-5 | P-15309-000 | Nature and People First Arizona PHS, LLC.
H-6 | P-15314-000 | Western Navajo Pumped Storage 1, LLC.
| P-15315-000 | Western Navajo Pumped Storage 2, LLC.
H-7 | P-2310-259, P-14531-003 | Pacific Gas and Electric Company.
| P-14530-004, P-2266-128 | Nevada Irrigation District.
Certificates
C-1 | CP19-7-002 | Tennessee Gas Pipeline Company, L.L.C.
C-2 | CP17-117-001, CP17-118-001 | Driftwood LNG LLC and Driftwood Pipeline LLC.
C-3 | CP23-29-000 | Saguaro Connector Pipeline, LLC.

The Federal Energy Regulatory Commission provides technical support for the free webcast of this meeting. Please call (202) 502-8680 or email customer@ferc.gov if you have any questions.

Issued: February 8, 2024.
Debbie-Anne A. Reese,
Acting Secretary.

[FR Doc. 2024-03058 Filed 2-9-24; 4:15 pm]

BILLING CODE 6717-01-P